DEPARTMENT OF DEFENSE

Department of the Navy

Notice of Intent To Grant Exclusive Patent License; NCP Coatings, Inc.

AGENCY: Department of the Navy, DoD.

ACTION: Notice; correction.

SUMMARY: The Department of the Navy published a document in the Federal Register on July 31, 2014, announcing an intent to grant to NCP Coatings, Inc. a revocable, nonassignable, exclusive license. The scope of the intent to license has been revised.

FOR FURTHER INFORMATION CONTACT: Rita Manak, Head, Technology Transfer Office, NRL Code 1004, 4555 Overlook Avenue SW., Washington, DC 20375-5320, telephone 202 767-3083. Due to U.S. Postal delays, please fax 202 404-7920, email: rita.manak@nrl.navy.mil or use courier delivery to expedite response.

Correction

In the Federal Register of July 31, 2014, make the following revision:

1. In the first and second column, on page 44428, revise the SUMMARY caption to read as follows:

“SUMMARY: The Department of the Navy hereby gives notice of its intent to grant to NCP Coatings, Inc., a revocable, nonassignable, exclusive license to practice in the field of use of manufacture and sale of single-component moisture-curable coatings for commercial marine, architectural, industrial OEM, automotive refinish, aerospace, and amusement park structural applications to metallic surfaces which require abrasion and oil/grease resistance in the United States, the Government-owned inventions described in U.S. Patent No. 9,139,753: Single-Component Moisture-Curable Coatings Based on N-Substituted Urea Polymers with Extended Chains and Terminal Alkoxysilanes, Navy Case No. 102,270 and any continuations, divisionals or re-issues thereof.”

DATES: Anyone wishing to object to the grant of this license must file written objections along with supporting evidence, if any, not later than February 24, 2016.

Dated: February 3, 2016.
N.A. Hagerty-Ford,
Commander, Judge Advocate General's Corps, U.S. Navy, Federal Register Liaison Officer.

[FR Doc. 2016-02514 Filed 2-8-16; 8:45 am]

BILLING CODE 3810-FF-P